FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 6, 2012.

A. Federal Reserve Bank of Atlanta (Chapelle Davis, Assistant Vice President) 1000 Peachtree Street, NE., Atlanta, Georgia 30309:

1. Anderson Volunteer Holdings, LP, Chattanooga, Tennessee, and its general partners, Robert R. Anderson and Doralynn Elizabeth Garrison Anderson, both of Longboat Key, Florida; to acquire voting shares of First Volunteer Corporation, and thereby indirectly acquire voting shares of First Volunteer Bank, both of Chattanooga, Tennessee.

B. Federal Reserve Bank of Minneapolis (Jacqueline G. King, Community Affairs Officer) 90 Hennepin Avenue, Minneapolis, Minnesota 55480-0291:

1. Paul Arnold Domke and Scott Allen Domke, both of Tulare, South Dakota; Rodney Domke, Highmore, South Dakota; and Naomi Ruth Reinhardt, Wessington, South Dakota; individually and as a group acting in concert, to acquire voting shares of Wessington Bankshares, Inc., Wessington, South Dakota, and thereby indirectly acquire voting shares of Heartland State Bank, Redfield, South Dakota.

Board of Governors of the Federal Reserve System, October 17, 2012.
Michael J. Lewandowski,
Assistant Secretary of the Board.

[FR Doc. 2012-25887 Filed 10-19-12; 8:45 am]

BILLING CODE 6210-01-P